ENVIRONMENTAL PROTECTION AGENCY

[FRL-8924-9]

Issuance of a Final NPDES General Permit (GP) for Federal Aquaculture Facilities and Aquaculture Facilities Located in Indian Country Within the Boundaries of the State of Washington (Permit Number WAG-13-0000)

AGENCY: Environmental Protection Agency (EPA).

ACTION: Issuance of final NPDES General Permit.

SUMMARY: On November 12, 2008, the Director, Office of Water and Watersheds, EPA Region 10, proposed to issue a general permit to cover federal aquaculture facilities and aquaculture facilities in Indian Country in the State of Washington that meet minimum size thresholds of 20,000 pounds annual production and 5,000 pounds of feed used in the maximum month of feeding. During the 47-day comment period, EPA received comments from six people representing four organizations and has prepared a Response to Comments document to explain changes made in the permit and reasons for not making changes that were requested. EPA received certification for the permit under Section 401 of the Clean Water Act from the Lummi Nation, the Makah Tribe, the Spokane Tribe, the Tulalip Tribes, and the Washington Department of Ecology.

DATES: The permit will become effective August 1, 2009 and will expire July 31, 2014. The permit issuance date is July 15, 2009.

ADDRESSES: Copies of the General Permit and the Response to Comments may be requested from Audrey Washington, EPA Region 10, 1200 Sixth Avenue, Suite 900, OWW-130, Seattle, WA 98101-3140, by phone at (206) 553-0523, or by e-mail: washington.audrey@epa.gov.

FOR FURTHER INFORMATION CONTACT: Copies of the general permit, fact sheet, and response to comments are available on the EPA Region 10 Web site at http://yosemite.epa.gov/R10/WATER.NSF/NPDES+Permits/General+NPDES+Permits#fedaqua.

SUPPLEMENTARY INFORMATION:

A. Endangered Species Act

EPA has determined that issuance of the General Permit is not likely to adversely affect threatened or endangered salmonids, birds, or marine mammals, their designated critical habitat, or essential fish habitat. EPA has also determined that issuance of the General Permit will have no effect on any threatened or endangered marine reptiles, terrestrial mammals, invertebrates, or their designated critical habitats. Consultation with the U.S. Fish and Wildlife Service and the National Marine Fisheries Service is ongoing.

B. Executive Order 12866

The Office of Management and Budget has exempted this action from the review requirements of Executive Order 12866 pursuant to Section 6 of that order.

C. Paperwork Reduction Act

The information collection requirements of this permit were previously approved by the Office of Management and Budget (OMB) under the provisions of the Paperwork Reduction Act, 44 U.S.C. 3501 et seq. and assigned OMB control numbers 2040-0086 (NPDES permit application) and 2040-0004 (discharge monitoring reports).

D. Unfunded Mandates Reform Act

Section 201 of the Unfunded Mandates Reform Act (UMRA), Public Law 104-4, generally requires federal agencies to assess the effects of their “regulatory actions” (defined to be the same as “rules” subject to the RFA) on tribal, state, and local governments and the private sector. However, general NPDES permits are not “rules” subject to the requirements of 5 U.S.C. 553(b) and are therefore not subject to the UMRA.

E. Appeal of Permits

Any interested person may appeal the general permit in the Federal Court of Appeals in accordance with Section 509(b)(1) of the Clean Water Act. This appeal must be filed within 120 days after the permit issuance date. Persons affected by the permits may not challenge the conditions of the permits in further EPA proceedings (See 40 CFR 124.19). Instead they may either challenge the permit in court or apply for an individual NPDES permit.

Dated: June 23, 2009.
Michael A. Bussell,
Director, Office of Water & Watersheds, Region 10.

[FR Doc. E9-15417 Filed 6-30-09; 8:45 am]

BILLING CODE 6560-50-P